DEPARTMENT OF JUSTICE

Notice of Lodging of Proposed Consent Decree Under the Clean Water Act

On March 28, 2013, the Department of Justice lodged a proposed consent decree with the United States District Court for the District of Hawaii in the lawsuit entitled United States and State of Hawaii v. Marisco, Ltd., Civil Action No. 13-00146-LEK-RLP.

This consent decree will resolve claims asserted by the United States and the State of Hawaii against Marisco, Ltd. for injunctive relief and civil penalties based on violations of the Clean Water Act. The complaint in this lawsuit alleges that Marisco violated the regulations that govern the discharge of pollutants at the defendant's shipyard and drydock facility at Barbers Point Harbor near Kapolei, Hawaii. The consent decree requires the defendant to perform injunctive relief and pay a civil penalty of $710,000.

The publication of this notice opens a period for public comment on the consent decree. Comments should be addressed to the Assistant Attorney General, Environment and Natural Resources Division, and should refer to United States and State of Hawaii v. Marisco, Ltd., D.J. Ref. No.90-5-1-1-09870. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department Web site: http://www.usdoj.gov/enrd/Consent_Decrees.html. We will provide a paper copy of the consent decree upon written request and payment of reproduction costs. Please mail your request and payment to:

Consent Decree Library, U.S. DOJ—ENRD, P.O. Box 7611, Washington, DC 20044-7611.

Please enclose a check or money order for $8.50 (25 cents per page reproduction cost) payable to the United States Treasury.

Maureen Katz,
Assistant Section Chief, Environmental Enforcement Section, Environment and Natural Resources Division.

[FR Doc. 2013-07701 Filed 4-2-13; 8:45 am]

BILLING CODE 4410-15-P